DEPARTMENT OF THE INTERIOR

National Park Service

[NPS-WASO-NAGPRA-17466; PPWOCRADN0-PCU00RP14.R50000]

Notice of Inventory Completion: University of Denver Museum of Anthropology, Denver, CO

AGENCY: National Park Service, Interior.

ACTION: Notice.

SUMMARY: The University of Denver Museum of Anthropology has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the University of Denver Museum of Anthropology. If no additional requestors come forward, transfer of control of the human remains to the Indian tribes or Native Hawaiian organizations stated in this notice may proceed.

DATES: Representatives of any Indian tribe or Native Hawaiian organization not identified in this notice that wish to request transfer of control of these human remains should submit a written request with information in support of the request to the University of Denver Museum of Anthropology at the address in this notice by March 6, 2015.

ADDRESSES: Anne Amati, University of Denver Museum of Anthropology, 2000 E. Asbury Ave., Denver, CO 80208, telephone (303) 871-2687, email anne.amati@du.edu.

SUPPLEMENTARY INFORMATION: Notice is here given in accordance with the Native American Graves Protection and Repatriation Act (NAGPRA), 25 U.S.C. 3003, of the completion of an inventory of human remains under the control of the University of Denver Museum of Anthropology, Denver, CO. The human remains were removed from an unknown site in Wyoming.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Denver Museum of Anthropology professional staff in consultation with representatives of tribes with aboriginal territory in Wyoming. The consultant tribes with aboriginal territory in Wyoming include: Arapaho Tribe of the Wind River Reservation, Wyoming; Cheyenne and Arapaho Tribes, Oklahoma (previously listed as the Cheyenne-Arapaho Tribes of Oklahoma); Crow Tribe of Montana; Ely Shoshone Tribe of Nevada; Fort Belknap Indian Community of the Fort Belknap Reservation of Montana; Keweenaw Bay Indian Community, Michigan; Paiute-Shoshone Tribe of the Fallon Reservation and Colony, Nevada; Santee Sioux Nation, Nebraska; Shoshone Tribe of the Wind River Reservation, Wyoming; Shoshone-Bannock Tribes of the Fort Hall Reservation; Shoshone-Paiute Tribes of the Duck Valley Reservation, Nevada; Sisseton-Wahpeton Oyate of the Lake Traverse Reservation, South Dakota; and Yankton Sioux Tribe of South Dakota.

The following tribes with aboriginal territory in Wyoming were also invited to participate but were not involved in consultations: Assiniboine and Sioux Tribes of the Fort Peck Indian Reservation, Montana; Big Pine Paiute Tribe of the Owens Valley (previously listed as the Big Pine Band of Owens Valley Paiute Shoshone Indians of the Big Pine Reservation, California); Bishop Paiute Tribe (previously listed as the Paiute-Shoshone Indians of the Bishop Community of the Bishop Colony, California); Cheyenne River Sioux Tribe of the Cheyenne River Reservation, South Dakota; Chippewa-Cree Indians of the Rocky Boy's Reservation, Montana; Crow Creek Sioux Tribe of the Crow Creek Reservation, South Dakota; Death Valley Timbi-Sha Shoshone Tribe (previously listed as the Death Valley Timbi-Sha Shoshone Band of California); Duckwater Shoshone Tribe of the Duckwater Reservation, Nevada; Flandreau Santee Sioux Tribe of South Dakota; Fort McDermitt Paiute and Shoshone Tribes of the Fort McDermitt Indian Reservation, Nevada and Oregon; Lac Vieux Desert Band of Lake Superior Chippewa Indians, Michigan; Lone Pine Paiute-Shoshone Tribe (previously listed as the Paiute-Shoshone Indians of the Lone Pine Community of the Lone Pine Reservation, California); Lower Brule Sioux Tribe of the Lower Brule Reservation, South Dakota; Lower Sioux Indian Community in the State of Minnesota; Oglala Sioux Tribe (previously listed as the Oglala Sioux Tribe of the Pine Ridge Reservation, South Dakota); Prairie Island Indian Community in the State of Minnesota; Pyramid Lake Paiute Tribe of the Pyramid Lake Reservation, Nevada; Reno-Sparks Indian Colony, Nevada; Rosebud Sioux Tribe of the Rosebud Indian Reservation, South Dakota; Shakopee Mdewakanton Sioux Community of Minnesota; Spirit Lake Tribe, North Dakota; Standing Rock Sioux Tribe of North & South Dakota; Te-Moak Tribe of Western Shoshone Indians of Nevada (Four constituent bands: Battle Mountain Band; Elko Band; South Fork Band and Wells Band); Three Affiliated Tribes of the Fort Berthold Reservation, North Dakota; Upper Sioux Community, Minnesota; Washoe Tribe of Nevada & California (Carson Colony, Dresslerville Colony, Woodfords Community, Stewart Community, & Washoe Ranches); and Yomba Shoshone Tribe of the Yomba Reservation, Nevada.

Hereafter, all tribes listed in this section are referred to as “The Consulted and Notified Tribes.”

History and Description of the Remains

At an unknown date, human remains representing, at minimum, 1 individual were removed from an unknown site in Wyoming. Theodore Sowers collected the human remains in the 1930s during fieldwork led by Dr. E.B. Renaud of the University of Denver Department of Anthropology. Mr. Sowers' daughters, Katy Sickles and Jenny Bauer, donated the human remains to the University of Denver Museum of Anthropology in August, 1995, to facilitate repatriation. A napkin with the inscription “A Katenia” and male/female symbols were found with the remains upon donation. No known individuals were identified. No associated funerary objects are present.

Pursuant to 43 CFR 10.16, the Secretary of the Interior may make a recommendation for a transfer of control of culturally unidentifiable human remains. In November 2014, the University of Denver Museum of Anthropology requested that the Secretary, through the Native American Graves Protection and Repatriation Review Committee, recommend the proposed transfer of control of the culturally unidentifiable Native American human remains in this notice to the Arapaho Tribe of the Wind River Reservation, Wyoming; and the Shoshone Tribe of the Wind River Reservation, Wyoming. The Review Committee, acting pursuant to its responsibility under 25 U.S.C. 3006(c)(5), considered the request at its November 2014 meeting and recommended to the Secretary that the proposed transfer of control proceed. A December 29, 2014 letter on behalf of the Secretary of Interior from the Associate Director, Cultural Resources, Partnerships, and Science transmitted the Secretary's independent review and concurrence with the Review Committee that:

• The University of Denver Museum of Anthropology consulted with every appropriate Indian tribe or Native Hawaiian organization,

• none of The Consulted and Notified Tribes objected to the proposed transfer of control, and

• the University of Denver Museum of Anthropology may proceed with the agreed upon transfer of control of the culturally unidentifiable human remains to the Arapaho Tribe of the Wind River Reservation, Wyoming; and the Shoshone Tribe of the Wind River Reservation, Wyoming.

Transfer of control is contingent on the publication of a Notice of Inventory Completion in the Federal Register. This notice fulfills that requirement.

Determinations Made by the University of Denver Museum of Anthropology

Officials of the University of Denver Museum of Anthropology have determined that:

• Pursuant to 25 U.S.C. 3001(9), the human remains described in this notice are Native American based on the broader collecting practices of Mr. Theodore Sowers and the findings of a physical anthropologist employed by the University of Denver prior to November 1995.

• Pursuant to 25 U.S.C. 3001(9), the human remains described in this notice represent the physical remains of 1 individual of Native American ancestry.

• Pursuant to 25 U.S.C. 3001(2), a relationship of shared group identity cannot be reasonably traced between the Native American human remains and any present-day Indian tribe.

• Pursuant to 43 CFR 10.16, the disposition of the human remains will be to the Arapaho Tribe of the Wind River Reservation, Wyoming; and the Shoshone Tribe of the Wind River Reservation, Wyoming.

Additional Requestors and Disposition

Representatives of any Indian tribe or Native Hawaiian organization not identified in this notice that wish to request transfer of control of these human remains should submit a written request with information in support of the request to Anne Amati, University of Denver Museum of Anthropology, 2000 East Asbury Ave., Denver, CO 80208, telephone (303) 871-2687, email anne.amati@du.edu, by March 6, 2015. After that date, if no additional requestors have come forward, transfer of control of the human remains to the Arapaho Tribe of the Wind River Reservation, Wyoming; and the Shoshone Tribe of the Wind River Reservation, Wyoming may proceed.

The University of Denver Museum of Anthropology is responsible for notifying The Consulted and Notified Tribes that this notice has been published.

Dated: January 9, 2015.
Melanie O'Brien,
Acting Manager, National NAGPRA Program.

[FR Doc. 2015-02189 Filed 2-3-15; 8:45 am]

BILLING CODE 4312-50-P